DEPARTMENT OF COMMERCE

International Trade Administration

U.S.-European Union (EU) Safe Harbor Framework—Notice of Request for Public Comment

AGENCY: International Trade Administration, Department of Commerce.

ACTION: Notice of request for public comment.

SUMMARY: The Department of Commerce's International Trade Administration (ITA) is proposing implementation of a cost recovery program to support the operation of the U.S.-European Union (EU) Safe Harbor Framework. The Framework allows U.S. companies to satisfy the requirements of the EU's Directive on Data Protection when transferring personal information from the EU, thereby ensuring uninterrupted data transfers worth billions of dollars in trade between the EU and the United States. As the program has grown from 6 companies to nearly 1,700, so too have the requests from these U.S. companies for Safe Harbor-related services, including education, outreach, and counseling. ITA is responsible for managing the U.S.-EU Safe Harbor Framework for the Administration. In order to better serve ITA's clients, ITA is proposing to establish a two-tiered fee structure in which new clients would be required to pay a $200 registration (processing) fee and existing clients who renew their certification commitment to Safe Harbor would pay $100 each year following their initial certification.

DATES: Comments must be received by December 16, 2008.

ADDRESSES: Input on or inquiries about ITA's proposed cost recovery program for operation of the U.S.-EU Safe Harbor Framework should be addressed to the contact below, and received by close of business on December 16, 2008.

FOR FURTHER INFORMATION CONTACT: David A. Ritchie, U.S. Department of Commerce, Office of Technology and Electronic Commerce, 1401 Constitution Avenue, NW., Room 2003, Washington, DC 20230; Telephone: 202-482-4936.; e-mail: david.ritchie@mail.doc.gov.

Dated: December 2, 2008.
Robin Layton,
Director, Office of Technology and Electronic Commerce.

[FR Doc. E8-28906 Filed 12-4-08; 8:45 am]

BILLING CODE 3510-DR-P